FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[July 1, 2020 thru July 31, 2020]
07/02/2020
20201140 | G | LS Power Equity Partners III, L.P.; FirstEnergy Corp.; LS Power Equity Partners III, L.P.
20201161 | G | Mitsui & Co., Ltd.; Thorne Holding Corp.; Mitsui & Co., Ltd.
20201167 | G | Kirin Holdings Company, Limited; Thorne Holding Corp.; Kirin Holdings Company, Limited.
07/07/2020
20201128 | G | OMV Aktiengesellschaft; Mubadala Investment Company PJSC; OMV Aktiengesellschaft.
20201148 | G | LS Power Equity Partners III, L.P.; LS Power Equity Partners II, L.P.; LS Power Equity Partners III, L.P.
20201156 | G | Sierra Pacific Land & Timber Company; Soper Company; Sierra Pacific Land & Timber Company.
20201169 | G | Highmark Health; HealthNow Systems, Inc.; Highmark Health.
20201172 | G | Trey J. Mytty; Harrison Corporation; Trey J. Mytty.
20201177 | G | Raul Marcelo Claure; Deutsche Telekom AG; Raul Marcelo Claure.
20201178 | G | L'Oreal S.A.; John Gehr; L'Oreal S.A.
20201179 | G | Vista Equity Partners Perennial A, L.P.; Sandler Capital Partners V, L.P.; Vista Equity Partners Perennial A, L.P.
20201180 | G | Forum Merger II Corporation; Salvatore Galletti; Forum Merger II Corporation.
20201181 | G | Just Eat Takeaway.com N.V.; GrubHub Inc.; Just Eat Takeaway.com N.V.
20201184 | G | Deutsche Telekom AG; Deutsche Telekom AG; Deutsche Telekom AG.
20201193 | G | Steven M. Rales; Danaher Corporation; Steven M. Rales.
07/13/2020
20201190 | G | General Dynamics Corporation; Medico Industries, Inc.; General Dynamics Corporation.
07/14/2020
20200034 | S | Bayer AG; Elanco Animal Health Incorporated; Bayer AG.
20200035 | Y | Elanco Animal Health Incorporated; Bayer AG; Elanco Animal Health Incorporated.
20201194 | G | Desmarais Residuary Family Trust; Personal Capital Corporation; Desmarais Residuary Family Trust.
20201196 | G | Athene Holding Ltd.; Prudential plc; Athene Holding Ltd.
20201199 | G | Investindustrial VII L.P.; Knoll, Inc.; Investindustrial VII L.P.
20201200 | G | Tortoise Acquisition Corp.; Hyliion Inc.; Tortoise Acquisition Corp.
20201203 | G | Arsenal Capital Partners V LP; Cello Health plc; Arsenal Capital Partners V LP.
07/15/2020
20201204 | G | Sompo Holdings, Inc.; Palantir Technologies, Inc.; Sompo Holdings, Inc.
20201205 | G | IIF US Holding 2 LP; IIF US Holding LP; IIF US Holding 2 LP.
20201206 | G | Gregg L. Engles; Borden Dairy Holdings, LLC; Gregg L. Engles.
20201208 | G | Unilever PLC; Unilever N.V.; Unilever PLC.
20201210 | G | Sanofi; Translate Bio, Inc.; Sanofi.
20201211 | G | Invitae Corporation; ArcherDX, Inc.; Invitae Corporation.
20201214 | G | MiddleGround Como Co-Invest Partners, L.P.; Charlton Holdings LLC; MiddleGround Como Co-Invest Partners, L.P.
20201217 | G | Oaktree Power Opportunities Fund V, L.P.; Montrose Environmental Group, Inc.; Oaktree Power Opportunities Fund V, L.P.
20201220 | G | General Atlantic Partners 100, L.P.; Doctor on Demand, Inc.; General Atlantic Partners 100, L.P.
07/16/2020
20201198 | G | Enviva Partners, LP; RWE Aktiengesellschaft; Enviva Partners, LP.
07/17/2020
20201192 | G | Vista Equity Partners Fund V, L.P.; 4C Insights, Inc.; Vista Equity Partners Fund V, L.P.
20201207 | G | Genstar Capital Partners IX, L.P.; Sentinel Capital Partners V, L.P.; Genstar Capital Partners IX, L.P.
07/27/2020
20201218 | G | Fiera Infrastructure Fund; CSC CUB Holdings, LP; Fiera Infrastructure Fund.
20201219 | G | Stichting Pensioenfonds ABP; CSC CUB Holdings, LP; Stichting Pensioenfonds ABP.
20201221 | G | Citadel Kensington Global Strategies Fund Ltd.; UP Energy Corporation; Citadel Kensington Global Strategies Fund Ltd.
20201222 | G | Sony Corporation; Timothy D. Sweeney; Sony Corporation
20201223 | G | Crescent Acquisition Corp; F45 Training Holdings Inc.; Crescent Acquisition Corp.
20201224 | G | VPI Holding Company, LLC; Centerbridge Capital Partners III, L.P.; VPI Holding Company, LLC.
20201231 | G | Thomas Tull; Acrisure Holdings, Inc.; Thomas Tull.
20201234 | G | Temasek Holdings (Private) Limited; LegalApp Holdings, Inc.; Temasek Holdings (Private) Limited.
20201235 | G | Authentic Brands Group LLC; LBD Parent Holdings, LLC; Authentic Brands Group LLC.
07/29/2020
20201233 | G | Roark Capital Partners III LP; Roark Capital Partners IV Cayman AIV LP; Roark Capital Partners III LP.
20201238 | G | Insurance Acquisition Corp.; Shift Technologies, Inc.; Insurance Acquisition Corp.
20201241 | G | GT Polaris Holdings, L.P.; I. Charles Widger; GT Polaris Holdings, L.P.
20201242 | G | GT Polaris Holdings, L.P.; NorthStar Topco, LLC; GT Polaris Holdings, L.P.
20201248 | G | KIA X (Breathe), L.P.; GlaxoSmithKline plc; KIA X (Breathe), L.P.
20201249 | G | Eppendorf AG; Promega Corporation; Eppendorf AG.
20201250 | G | Naspers Limited; Remitly Global, Inc.; Naspers Limited.
20201251 | G | Blackstone Capital Partners VII L.P.; Gregory Burgess; Blackstone Capital Partners VII L.P.
20201258 | G | Hargray Acquisition Holdings, LLC; Cable One, Inc.; Hargray Acquisition Holdings, LLC.
07/31/2020
20201252 | G | EQT VIII (No. 1) SCSp; Rancher Labs, Inc.; EQT VIII (No. 1) SCSp.

FOR FURTHER INFORMATION CONTACT: Theresa Kingsberry (202-326-3100), Program Support Specialist, Federal Trade Commission Premerger Notification Office, Bureau of Competition, Room CC-5301, Washington, DC 20024.

By direction of the Commission.
April J. Tabor,
Acting Secretary.

[FR Doc. 2020-22944 Filed 10-15-20; 8:45 am]

BILLING CODE 6750-01-P